DEPARTMENT OF ENERGY

Federal Energy Regulatory Commission

Combined Notice of Filings #1

Take notice that the Commission received the following electric corporate filings:

Docket Numbers: EC15-10-000.

Applicants: Palouse Wind, LLC.

Description: Application for Authorization Under Section 203 of the Federal Power Act and Request for Waivers, Confidential Treatment, Shortened Comment Period and Expedited Action of Palouse Wind, LLC.

Filed Date: 10/10/14.

Accession Number: 20141010-5208.

Comments Due: 5 p.m. ET 10/31/14.

Take notice that the Commission received the following electric rate filings:

Docket Numbers: ER10-2848-005; ER11-1939-007; ER11-2754-007; ER12-999-005; ER12-1002-005; ER12-1005-005; ER12-1006-005; ER12-1007-006.

Applicants: AP Holdings, LLC, AP Gas & Electric (IL), LLC, AP Gas & Electric (MD), LLC, AP Gas & Electric (NJ), LLC, AP Gas & Electric (NY), LLC, AP Gas & Electric (OH), LLC, AP Gas & Electric (PA), LLC, AP Gas & Electric (TX), LLC.

Description: Supplement to June 30, 2014 Updated Market Power Analysis for the Northeast Region of AP Holdings Sellers.

Filed Date: 10/14/14.

Accession Number: 20141014-5317.

Comments Due: 5 p.m. ET 11/4/14.

Docket Numbers: ER10-3069-005; ER10-3070-005.

Applicants: Alcoa Power Generating Inc., Alcoa Power Marketing LLC.

Description: Supplement to June 30, 2014 Southeast Triennial Update of the Alcoa Companies.

Filed Date: 10/14/14.

Accession Number: 20141014-5364.

Comments Due: 5 p.m. ET 11/4/14.

Docket Numbers: ER11-1850-005; ER11-1847-005; ER11-1846-005; ER14-1360-001; ER11-2598-008; ER14-1359-001; ER12-1152-005; ER12-1153-005; ER13-1192-002; ER11-3623-002; ER11-1848-005.

Applicants: Direct Energy Business, LLC, Direct Energy Marketing Inc., Direct Energy Services, LLC, Energetix DE, LLC, Gateway Energy Services Corporation, NYSEG Solutions, LLC, Bounce Energy NY, LLC, Bounce Energy PA, LLC, Direct Energy Business Marketing, LLC, Hess Small Business Services LLC; Energy America, LLC.

Description: Supplement to July 1, 2014 Northeast Region Triennial Report of the Direct Energy Sellers.

Filed Date: 10/14/14.

Accession Number: 20141014-5183.

Comments Due: 5 p.m. ET 11/4/14.

Docket Numbers: ER12-316-005.

Applicants: NorthWestern Corporation.

Description: Compliance filing per 35: Schedule 3 Further Compliance Filing to be effective 1/1/2011.

Filed Date: 10/14/14.

Accession Number: 20141014-5345.

Comments Due: 5 p.m. ET 11/4/14.

Docket Numbers: ER14-2464-001.

Applicants: Midcontinent Independent System Operator, Inc.

Description: Tariff Amendment per 35.17(b): 2014-10-14_Deficiency Response SA 2678 OTP-Border Winds FCA (J290) to be effective 7/19/2014.

Filed Date: 10/14/14.

Accession Number: 20141014-5336.

Comments Due: 5 p.m. ET 11/4/14.

Docket Numbers: ER14-2913-000; ER14-2912-000.

Applicants: UP Power Marketing LLC.

Description: Supplement to September 19, 2014 UP Power Marketing LLC and White Pine Electric Power L.L.C. notice of non material change in status filings.

Filed Date: 10/10/14.

Accession Number: 20141010-5166.

Comments Due: 5 p.m. ET 10/31/14.

Docket Numbers: ER15-76-000.

Applicants: Southern California Edison Company.

Description: § 205(d) rate filing per 35.13(a)(2)(iii): Letter Agreement with Imperial Irrigation District to be effective 10/6/2014.

Filed Date: 10/14/14.

Accession Number: 20141014-5002.

Comments Due: 5 p.m. ET 11/4/14.

Docket Numbers: ER15-77-000.

Applicants: Southwest Power Pool, Inc.

Description: § 205(d) rate filing per 35.13(a)(2)(iii): 2041R3 Kansas City Board of Public Utilities PTP Agreement to be effective 8/1/2014.

Filed Date: 10/14/14.

Accession Number: 20141014-5174.

Comments Due: 5 p.m. ET 11/4/14.

Docket Numbers: ER15-78-000.

Applicants: Southern California Edison Company.

Description: § 205(d) rate filing per 35.13(a)(2)(iii): LGIA with Desert Harvest, LLC and Desert Harvest II, LLC to be effective 10/15/2014.

Filed Date: 10/14/14.

Accession Number: 20141014-5270.

Comments Due: 5 p.m. ET 11/4/14.

Docket Numbers: ER15-79-000.

Applicants: Southern California Edison Company.

Description: § 205(d) rate filing per 35.13(a)(2)(iii): LGIA with Cabazon Wind Energy, LLC to be effective 12/14/2014.

Filed Date: 10/14/14.

Accession Number: 20141014-5272.

Comments Due: 5 p.m. ET 11/4/14.

Docket Numbers: ER15-80-000.

Applicants: PJM Interconnection, L.L.C.

Description: § 205(d) rate filing per 35.13(a)(2)(iii): 3rd Quarter 2014 Updates to OA/RAA Membership Lists to be effective 9/30/2014.

Filed Date: 10/14/14.

Accession Number: 20141014-5334.

Comments Due: 5 p.m. ET 11/4/14.

Take notice that the Commission received the following qualifying facility filings:

Docket Numbers: QF14-642-000.

Applicants: CII Methane Management IV, LLC.

Description: Refund Report of CII Methane Management IV, LLC.

Filed Date: 10/14/14.

Accession Number: 20141014-5162.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2014.
Nathaniel J. Davis, Sr.,
Deputy Secretary.

[FR Doc. 2014-25061 Filed 10-21-14; 8:45 am]

BILLING CODE 6717-01-P